DEPARTMENT OF COMMERCE

Patent and Trademark Office

Invention Promoters/Promotion Firms Complaints

ACTION: Proposed Collection; comment request.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before May 30, 2000.

ADDRESSES: Direct all written comments to Linda Engelmeier, Departmental Forms Clearance Officer, Department of Commerce, Room 5027, 14th and Constitution Avenue, NW, Washington, DC 20230 or via the Internet at LEngelme@doc.gov.

FOR FURTHER INFORMATION CONTACT: Requests for additional information should be directed to the attention of Richard J. Apley, Director, Office of Independent Inventor Programs, Crystal Park 2, Suite 906, Washington, DC 20231. In addition, written comments may be sent via e-mail to richard.apley@uspto.gov.

SUPPLEMENTARY INFORMATION:

I. Abstract

The Inventors' Rights Act of 1999 requires the Patent and Trademark Office (PTO) to publish complaints filed by independent inventors against invention promoters/promotion firms and publish any replies to such complaints. The Inventors' Rights Act requires the PTO to publish these complaints and replies, but it does not require the PTO to enforce the Act, to investigate the complaints, or to participate in any legal proceedings against the invention promoters/promotion firms. The PTO will accept complaints filed against invention promoters/promotion firms and forward those complaints to the invention promoters/promotion firms for response. Both the complaints and the responses will be published so that they will be publicly available as required by the Act. The primary purpose of this collection is to make complaints and responses publicly available; the PTO will not accept complaints submitted under this system if the complainant requests confidentiality. The PTO has developed a form for the purpose of lodging a complaint against a promotion invention firm; however, use of the form is not mandatory as long as the complaint is clearly marked as a complaint filed under the Inventors' Rights Act or the PTO's rules implementing this Act.

II. Method of Collection

By mail, facsimile, or hand carry when an individual is required to participate in the information collection.

III. Data

OMB Number: 0651-0044.

Agency Form Number(s): PTO/SB/XX.

Type of Review: Revision of a currently approved collection.

Affected Public: Individuals or households; businesses or other for-profit organizations; not-for-profit institutions; farms; Federal Government; and State, Local or Tribal Government.

Estimated Number of Respondents: 100 responses for a complaint regarding invention promoters/promotion firms and 100 responses for responding to the complaint per year.

Estimated Time Per Response: It is estimated to take approximately 15 minutes to submit a complaint and 15 minutes for the invention promoters/promotion firms to respond to a complaint.

Estimated Total Annual Burden Hours: 50 hours per year.

Estimated Total Annual Cost Burden: $0 (no capital start-up or maintenance expenditures are required). Using the professional hourly rate of $30.00 for paralegals (or professionals equal to paralegals) to prepare the complaint and the average hourly rate of $101.00 to prepare the response to the complaint, the PTO estimates $3,275.00 per year for salary costs associated with respondents.

Item | Estimated time for response (minutes) | Estimated annual burden hours | Estimated annual responses
Complaint Regarding Invention Promoter | 15 | 25 | 100
Responses to the Complaints | 15 | 25 | 100
Totals |  | 50 | 200

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: March 24, 2000.
Linda Engelmeier,
Departmental Forms Clearance Officer, Office of the Chief Information Officer.

[FR Doc. 00-7809 Filed 3-29-00; 8:45 am]

BILLING CODE 3510-16-P